GENERAL SERVICES ADMINISTRATION

[OMB Control No. 3090-00XX]

Information Collection Standard Form, Real Property Status Report (SF-XXXX)

AGENCY: Office of Governmentwide Policy, General Services Administration (GSA).

ACTION: Notice of request for comments regarding a new information collection.

SUMMARY: Under the provisions of the Paperwork Reduction Act of 1995 (44 U.S.C. Chapter 35), the GSA Office of Governmentwide Policy will submit to the Office of Management and Budget (OMB) a request to review and approve a new information collection requirement concerning reporting real property status.

In support of OMB's continuing effort to reduce paperwork and respondent burden, GSA invites the general public and other Federal agencies to take this opportunity to comment on a proposed new information collection. In accordance with the Paperwork Reduction Act of 1995, this notice seeks comments concerning forms that will be used to collect information related to real property when required by a Federal financial assistance award. To view the form, go to OMB's main Web page at http://www.OMB.gov and click on the “Grants Management” and “Forms” links. OMB specifically requests comments on: (a) Whether the proposed collection of information is necessary for the proper performance of the functions of the agency, including whether the information shall have practical utility; (b) the accuracy of the estimate of the burden of the proposed collection of information; (c) the quality, utility, and clarity of the information to be collected; and (d) ways to minimize the burden of the collection of information on respondents, including through the use of automated collection techniques or other forms of information technology.

DATES: Comment Due Date: January 15, 2008.

FOR FURTHER INFORMATION CONTACT: Michael Nelson, Chair, Post-Award Workgroup; telephone 301-713-0833 ext. 199; fax 301-713-0806; e-mail Michael.Nelson@noaa.gov; mailing address 1305 East-West Highway, Room 7142, Silver Spring, MD 20910.

ADDRESSES: Submit comments regarding this burden estimate or any other aspect of this collection of information, including suggestions for reducing this burden, to the Regulatory Secretariat (VIR), General Services Administration, Room 4035, 1800 F Street, NW., Washington, DC 20405.

SUPPLEMENTARY INFORMATION:

A. Purpose

GSA, on behalf of the Federal Grants Streamlining Initiative, proposes to issue a new standard form, the Real Property Status Report (SF-XXXX). The SF-XXXX will be used to collect information related to real property when required by a Federal financial assistance award. The SF-XXXX includes a cover page, an Attachment A and Attachment B. The purpose of this new form is to report real property status or to request agency instructions on real property that was or will be provided or acquired, in whole or in part, under a Federal financial assistance award (e.g., grant, cooperative agreement, etc.), including real property that was improved (special circumstances apply to improvements) using Federal funds and real property that was donated to a Federal project in the form of a match or cost sharing donation. The form does not create any new reporting requirements. It does establish a standard format for reporting real property status under financial assistance awards. It does establish a standard annual reporting date of September 30 to be used, if an award does not specify an annual reporting date. The standard form will replace any agency unique forms currently in use to allow uniformity of collection and to support future electronic submission of information.

Background

Public Law 106-107 requires the OMB to direct, coordinate, and assist Executive Branch departments and agencies in establishing an interagency process to streamline and simplify Federal financial assistance procedures for non-Federal entities. The law also requires executive agencies to develop, submit to Congress, and implement a plan for that streamlining and simplification. Twenty-six Executive Branch agencies jointly submitted a plan to the Congress in May 2001. The plan described the interagency process through which the agencies would review current policies and practices and seek to streamline and simplify them. The process involved interagency work groups under the auspices of the U.S. Chief Financial Officers Council, Grants Policy Committee. The plan also identified substantive areas in which the interagency work groups had begun their review. Those areas are part of the Federal Grants Streamlining Initiative.

This proposed form is an undertaking of the interagency Post-Award Workgroup that supports the Federal Grants Streamlining Initiative. Additional information on the Federal Grants Streamlining Initiative, which focuses on implementing the Federal Financial Assistance Management Improvement Act of 1999 (Public Law 106-107), is set forth in the Federal Register published on September 13, 2006 (71 FR 54098). An overview of the SF-XXXX and five other report forms being developed under the Initiative was provided during a webcast of the Grants Policy Committee of the U.S. Chief Financial Officer Council held on March 8, 2007 (72 FR 7090, February 14, 2007).

Under the standards for management and disposition of federally-owned property and real property acquired under assistance awards (real property status) in 2 CFR Part 215, the “Uniform Administrative Requirements for Grants and Agreements with Institutions of Higher Education, Hospitals, and Other Non-Profit Organizations,” and the “Uniform Administrative Requirements for Grants and Agreements with State and Local Governments,” codified by Federal agencies at 53 FR 8048, on March 11, 1988, recipients may be required to provide Federal agencies with information concerning property in their custody annually, at award closeout or when the property is no longer needed. During the public consultation process mandated by Public Law 106-107, recipients suggested the need for clarification of these requirements and the establishment of a standard form to help them submit appropriate property information when required. The Real Property Status Report (SF-XXXX) is to be used in connection with requirements listed in the table below and Federal awarding agency guidelines:

For . . . | A recipient must . . . | When . . . | Under . . .
Federally-owned property | Submit an inventory listing | Annually, with information accurate as of 30 September, unless the award specifies a different date | 2 CFR 215.33(a)(1) A-102 Attachment 3.b.(5).
| Report the property to the Federal awarding agency | The property is no longer needed | 2 CFR 215.33(a)(1).
| Report the property to the Federal awarding agency | Upon completion of the award | 2 CFR 215.33(a)(1) A-102 Attachment 3.a.(1) and (2).
Real property acquired in whole or in part under an assistance award | Sell the property and reimburse the Federal awarding agency for the Federal share | The recipient is directed to sell the property under guidelines provided by the Federal awarding agency | 2 CFR 215.32(c)(2) Federal awarding agency guidelines.
| Transfer title to the property to the Federal Government or to an eligible third party | The recipient is directed to transfer title by the Federal awarding agency or its successor | 2 CFR 215.32(c)(3).
| Compensate the original Federal awarding agency or its successor | The recipient wants to retain title without further obligation to the Federal Government | 2 CFR 215.32(c)(1).
| Obtain the approval of the Federal awarding agency | Before making capital expenditures for improvements to property that materially increase its value or useful life | 2 CFR 230, Appendix B, Item 27. 2 CFR 220, Appendix A, Item 18.b.(3) A-87, Attachment B, Item 15.b.3.
| Obtain the approval of the Federal awarding agency | The recipient wants to use the real property in other federally-sponsored projects or programs that have purposes consistent with those authorized for support by the Federal awarding agency when the recipient determines that the property is no longer needed for the purpose of the original project | 2 CFR 215.32(b).
| Request disposition instructions | The recipient no longer needs the property for any purpose | 2 CFR 215.32(c).

B. Annual Reporting Burden

This form will be used by Federal agencies to collect information related to real property when required by a Federal financial assistance award. Since this form will be used primarily for reporting related to grants, and the GSA does not award grants, we are providing a burden estimate for one respondent.

Respondents: Assistance recipients.

Estimated Total Annual Burden Hours: 1.666667.

Estimated Cost: There is no expected cost to the respondents or to GSA.

Instrument | Number of respondents | Number of responses per respondent | Average burden hours per response | Total burden hours
Real Property Status Report SF-XXXX | 1 | 1 | 0.16666667 | 0.16666667
SF-XXXX—Real Property Status Report [Attachment A] | 1 | 1 | 0.75 | 0.75
SF-XXXX—Real Property Status Report [Attachment B] | 1 | 1 | 0.75 | 0.75
TOTAL |  |  |  | 1.666667

Obtaining Copies of Proposals: Requesters may obtain a copy of the information collection documents from the General Services Administration, Regulatory Secretariat (VIR), 1800 F Street, NW., Room 4035, Washington, DC 20405, telephone (202) 501-4755, or by faxing your request to (202) 501-4067. Please cite the title, OMB Control No. 3090-00XX, Real Property Status Report, in all correspondence.

Dated: November 9, 2007.
Casey Coleman,
Chief Information Officer.

[FR Doc. 07-5724 Filed 11-15-07; 8:45 am]

BILLING CODE 6820-RH-P